DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on February 27, 2007. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, PO Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearing will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Frequently Used in This Document

BCP: Boulder Canyon Project

Reclamation: Bureau of Reclamation

CAP: Central Arizona Project

CVP: Central Valley Project

CRSP: Colorado River Storage Project

FR: Federal Register

IDD: Irrigation and Drainage District

ID: Irrigation District

M&I: Municipal and Industrial

NMISC: New Mexico Interstate Stream Commission

O&M: Operation and Maintenance

P-SMBP: Pick-Sloan Missouri Basin Program

PPR: Present Perfected Right

RRA: Reclamation Reform Act of 1982

SOD: Safety of Dams

USACE: U.S. Army Corps of Engineers

WD: Water District

Pacific Northwest Region: Bureau of Reclamation, 1150 North Curtis Road, Suite 100, Boise, Idaho 83706-1234, telephone 208-378-5344.

New contract actions:

19. Six irrigation water user entities, Rogue River Basin Project, Oregon: Long-term contracts for exchange of water service with six entities for the provision of up to 2,634 acre-feet of stored water from Applegate Reservoir (USACE project) for irrigation use in exchange for the transfer of out-of-stream water rights from the Little Applegate River to instream flow rights with the State of Oregon for instream flow use.

20. Cowiche Creek Water Users Association and Yakima-Tieton ID, Yakima Project, Washington: Warren Act contract to allow the use of excess capacity in Yakima Project facilities to convey up to 1,583.4 acre-feet of nonproject water for the irrigation of approximately 396 acres of nonproject land.

Modified contract action:

16. One irrigation water user entity, Boise Project, Idaho: Long-term renewal and/or conversion of one irrigation water service contract for supplemental irrigation use of up to 1,718 acre-feet of storage space in Lucky Peak Reservoir, a USACE project on the Boise River, Idaho. Seventeen water service contracts have been converted to repayment contracts for a total of 68,500 acre-feet of storage space.

Completed contract action:

8. City of Cle Elum, Yakima Project, Washington: Contract for up to 2,170 acre-feet of water for municipal use. Contract executed on January 25, 2007.

Mid-Pacific Region: Bureau of Reclamation, 2800 Cottage Way, Sacramento, California 95825-1898, telephone 916-978-5250.

New contract actions:

45. Goleta WD, Cachuma Project, California: Proposed agreement for title transfer of a federally owned distribution system of the Cachuma Project.

Completed contract action:

29. Cachuma Operation and Maintenance Board, Cachuma Project, California: Repayment for SOD work on Lauro Dam. Contract executed on December 21, 2006.

Lower Colorado Region: Bureau of Reclamation, PO Box 61470 (Nevada Highway and Park Street), Boulder City, Nevada 89006-1470, telephone 702-293-8192.

Completed contract actions:

3. Brooke Water Co., BCP, Arizona: Amend contract for an additional 120 acre-feet per year of Colorado River water for domestic uses, as recommended by the Arizona Department of Water Resources. Contract executed March 16, 2007.

31. City of Needles, BCP, California: Amendment to contract No. 05-XX-30-W0445 to include PPR No. 44 for an annual diversion of 1,260 acre-feet or the annual consumptive use of 273 acre-feet, whichever is less. Contract executed March 16, 2007.

Upper Colorado Region: Bureau of Reclamation, 125 South State Street, Room 6107, Salt Lake City, Utah 84138-1102, telephone 801-524-3864.

New contract actions:

1.(b) Riverwalk Estates, LLP, Aspinall Storage Unit, CRSP: Riverwalk Estates, LLP has requested a 40-year water service contract for 8 acre-feet of M&I water out of Blue Mesa Reservoir, which requires Riverwalk Estates, LLP to present a Plan of Augmentation to the Division 4 Water Court.

1.(c) Camp Id-Ra-Ha-Je West Association, Aspinall Storage Unit, CRSP: Camp Id-Ra-Ha-Je West Association has requested a 40-year water service contract for 1 acre-foot of M&I water out of Blue Mesa Reservoir, which requires Camp Id-Ra-Ha-Je West Association to present a Plan of Augmentation to the Division 4 Water Court.

30. Weber Basin Water Conservancy District, Weber Basin Project, Utah: Contract providing for the District to repay the United States 15 percent of the cost of SOD modifications to the foundation of Arthur V. Watkins Dam.

31. Warren-Vosburg Ditch Company, Animas-La Plata Project, Colorado and New Mexico: Contract for payment of O&M costs associated with the Warren-Vosburg Ditch.

Discontinued contract action:

29. Strawberry Valley Project, Utah: Contract to allow conversions of project irrigation water to municipal, domestic, and industrial uses.

Completed contract actions:

1.(b) Riverwalk Estates, LLP, Aspinall Storage Unit, CRSP: Riverwalk Estates, LLP has requested a 40-year water service contract for 8 acre-feet of M&I water out of Blue Mesa Reservoir, which requires Riverwalk Estates, LLP to present a Plan of Augmentation to the Division 4 Water Court. Contract executed on March 1, 2007.

9. Pine River ID, Pine River Project, Colorado: Contract to allow the district to use a limited amount of project irrigation water for municipal, domestic, and industrial uses. Contract executed on March 16, 2007.

26. Emery County Project, Utah: The Huntington Cleveland Irrigation Company has requested a contract for carriage of up to 14,074 acre-feet of nonproject water; utilizing Huntington North Reservoir as a regulating feature associated with their Salinity Control Project. Contract executed on February 7, 2007.

28. North Fork Water Conservancy District and Ragged Mountain Water Users Association, Paonia Project, Colorado: North Fork and Ragged Mountain have requested a contract for supplemental water from the Paonia Project. Their contract expired on December 31, 2005, and the amended contract was executed on January 27, 2006. There is a need to amend this contract to include reference to the M&I contract waiting to be executed. Contract executed on January 23, 2007.

Great Plains Region: Bureau of Reclamation, PO Box 36900, Federal Building, 316 North 26th Street, Billings, Montana 59101, telephone 406-247-7752.

New contract actions:

49. City of Beloit, P-SMBP, Kansas: Contract renewal for M&I contract.

50. Twin Lakes Reservoir and Canal Company, Fryingpan-Arkansas Project, Colorado: Consideration of a request for a long-term contract for the use of excess capacity in the Fryingpan-Arkansas Project.

51. Giant Springs, Inc., Canyon Ferry Unit, P-SMBP, Montana: Request for a long-term contract for up to 5,600 acre-feet of water per year to fulfill the State requirement to replace water used under private rights.

Modified contract action:

12. Savage ID, P-SMBP, Montana: The district is currently seeking title transfer. The contract is subject to renewal pending outcome of the title transfer process. The existing interim contract is due to expire in May 2008.

Discontinued contract actions:

13. City of Fort Collins, Colorado-Big Thompson Project, Colorado: Long-term contracts for conveyance and storage of nonproject M&I water through Colorado-Big Thompson Project facilities.

14. Standing Rock Sioux Tribe, P-SMBP, North Dakota: Negotiate a long-term water service contract with the Standing Rock Sioux Tribe in North Dakota for irrigation of up to 2,380 acres of land within the reservation.

22. Garrison Diversion Unit, P-SMBP, North Dakota: Contracts to provide for project use pumping power or project use pumping power and supplemental irrigation water with various irrigation districts in North Dakota, covering a combined maximum 28,000 acres within the boundaries and limits set by the Dakota Water Resources Act of 2000.

Completed contract actions:

26. Pueblo West Metropolitan District, Pueblo West, Fryingpan-Arkansas Project, Colorado: Consideration of a request for a 5- to 10-year contract for the use of excess capacity in the Fryingpan-Arkansas Project. A 5-year contract was executed on January 1, 2007.

48. City of Beloit, P-SMBP, Kansas: Execution of a contract amendment to the original contract to add a renewal provision in accordance with Section 1 of the Act of June 21, 1963. Contract amendment was executed on February 6, 2007.

Dated: April 9, 2007.
Roseann Gonzales,
Director, Office of Program and Policy Services.

[FR Doc. E7-9275 Filed 5-14-07; 8:45 am]

BILLING CODE 4310-MN-P